DEPARTMENT OF TRANSPORTATION

Surface Transportation Board

[STB Finance Docket No. 34762]

CSX Transportation, Inc.—Temporary Trackage Rights Exemption—Alabama Great Southern Railroad Company

Alabama Great Southern Railroad Company (AGS), a subsidiary of Norfolk Southern Railway Company (the two entities will be referenced collectively as NSR) has agreed to grant temporary overhead trackage rights to CSX Transportation, Inc. (CSXT) over NSR lines running between Birmingham, AL, and Shrewsbury, LA, a total distance of approximately 355.1 miles.¹ Specifically, NSR has agreed to grant temporary overhead trackage rights over: (1) AGS South District between Birmingham, AL, 27th Street, milepost 142.0, and Meridian, MS, 27th Avenue, milepost 295.4; (2) NSR's trackage rights over the connection between AGS and KCSR near 27th Avenue in Meridian, MS, at milepost 295.4 and the connection between KCSR and AGS NO & NE District at milepost NO-0.4; (3) NO & NE District between Meridian, MS, 27th Avenue, milepost NO-0.4, and New Orleans, LA, Oliver Junction, milepost 194.1, and (4) New Orleans terminal Back Belt Line between New Orleans, LA, Oliver Junction, milepost 7.9 NT, and East City Junction at milepost 3.8 NT and between East City Junction at milepost 3.5 A and Shrewsbury, LA, IC Connection, milepost 0.0 A.²

¹ An incidental portion of the rail line, consisting of four-tenths of a mile, is operated by NSR via a trackage rights agreement between AGS and The Kansas City Southern Railway Company (KCSR). KCSR has consented to the use of the KCSR segment for the purposes of this transaction.

² On September 23, 2005, CSXT filed a request for a protective order and submitted a redacted version of the temporary trackage rights agreement that had been filed with the Board on September 22, 2005. CSXT stated that the unredacted version of the agreement that had been filed on September 22, 2005, contained highly sensitive data and proprietary information. It therefore asked that the unredacted version of the agreement be placed under seal and that the redacted version be placed in the public record in this proceeding. By decision served on September 28, 2005, the Board granted these requests.

The exemption became effective on September 23, 2005, and will expire on January 1, 2006.³ The purpose of the temporary trackage rights is to allow CSXT to resume continuous east-west overhead service between Jacksonville, FL, and New Orleans, LA after portions of CSXT's main line between Pascagoula, MS, and New Orleans became inoperable due to damage from Hurricane Katrina.

³ By decision served September 23, 2005, the Board granted CSXT's request for waiver of 49 CFR 1180.4(g) and allowed the exemption to become effective on September 23, 2005.

As a condition to this exemption, any employees affected by the acquisition of the temporary trackage rights will be protected by the conditions imposed in Norfolk and Western Ry. Co.—Trackage Rights—BN, 354 I.C.C. 605 (1978), as modified in Mendocino Coast Ry., Inc.—Lease and Operate, 360 I.C.C. 653 (1980), and any employees affected by the discontinuance of those trackage rights will be protected by the conditions set out in Oregon Short Line R. Co.—Abandonment—Goshen, 360 I.C.C. 91 (1979).

This notice is filed under 49 CFR 1180.2(d)(8). If it contains false or misleading information, the exemption is void ab initio. Petitions to revoke the exemption under 49 U.S.C. 10502(d) may be filed at any time. The filing of a petition to revoke will not automatically stay the transaction.

An original and 10 copies of all pleadings, referring to STB Finance Docket No. 34762, must be filed with the Surface Transportation Board, 1925 K Street, NW., Washington, DC 20423-0001. In addition, one copy of each pleading must be served on Robert Ledoux, Assistant General Counsel, CSX Transportation, Inc., 500 Water Street J-150, Jacksonville, FL 32202, and Louis E. Gitomer, Ball Janik LLP, 1455 F Street, NW., Suite 225, Washington, DC 20005.

Board decisions and notices are available on our Web site at http://www.stb.dot.gov.

Decided: September 29, 2005.
By the Board, David M. Konschnik, Director, Office of Proceedings.
Vernon A. Williams,
Secretary.

[FR Doc. 05-20019 Filed 10-6-05; 8:45 am]

BILLING CODE 4915-01-P